FEDERAL RETIREMENT THRIFT INVESTMENT BOARD

Notice of Board Meeting

DATES: January 24, 2023 at 10:00 a.m.

ADDRESSES: Telephonic. Dial-in (listen only) information: Number: 1-202-599-1426, Code: 655 473 40#; or via web: https://teams.microsoft.com/l/meetup-join/19%3ameeting_ZWU2NDI3MmQtZWJiMS00MTcwLTk2NjctNTg3M2NhODllMDc3%40thread.v2/0?context=%7b%22Tid%22%3a%223f6323b7-e3fd-4f35-b43d-1a7afae5910d%22%2c%22Oid%22%3a%227c8d802c-5559-41ed-9868-8bfad5d44af9%22%7d.

FOR FURTHER INFORMATION CONTACT: Kimberly Weaver, Director, Office of External Affairs, (202) 942-1640.

SUPPLEMENTARY INFORMATION:

Board Meeting Agenda

Open Session

1. Approval of the December 20, 2022 Board Meeting Minutes

2. Monthly Reports

(a) Participant Activity Report

(b) Legislative Report

3. Quarterly Reports

(c) Budget Review

(d) Audit Status

4. Quarterly Performance and Annual Investment Policy

5. Annual Expense Ratio Review

6. Federal Employee Viewpoint Survey (FEVS) Update

7. SECURE 2.0 Act Status Update

Closed Session

8. Information covered under 5 U.S.C. 552b (c)(9)(B).

(Authority: 5 U.S.C. 552b (e)(1))

Dated: January 10, 2023.
Dharmesh Vashee,
General Counsel, Federal Retirement Thrift Investment Board.

[FR Doc. 2023-00663 Filed 1-13-23; 8:45 am]

BILLING CODE 6760-01-P